DEPARTMENT OF ENERGY

Federal Energy Regulatory Commission

[Docket No. CP05-91-000]

Calhoun LNG, L.P.; Notice Of Application

March 28, 2005.

Take notice that on March 18, 2005, Calhoun LNG, L.P. (Calhoun LNG), Three Riverway, Suite 525, Houston, Texas, 77056, filed an application in Docket

No. CP05-91-000 pursuant to section 3(a) of the Natural Gas Act (NGA), and Part 153 of the Commission's regulations, requesting authorization to site, construct, and operate a liquefied natural gas (LNG) import terminal and associated facilities to be located in the Port of Port Lavaca-Point Comfort in Calhoun County, Texas as a place of entry for the importation of LNG. An affiliated company, Port Comfort Pipeline Company, L.P. (PCPLC) proposes to construct 12 miles of 30-inch-diameter non-jurisdictional send-out pipeline and related facilities that would connect the downstream end of the jurisdictional LNG terminal to intrastate pipelines and industrial end-users.

The LNG import terminal would be comprised of a LNG receiving facility (including docking facilities and associated piping and appurtenances) designed to receive 75,000 m3 to 220,000 m3 ships and a LNG storage and vaporization facility (including two single containment LNG 160,000 m3 storage tanks, vaporization units and associated piping and control equipment) as well as associated utilities, infrastructure and support systems.

This application is on file with the Commission and open to public inspection. It is available for review at the Commission in the Public Reference Room or may also be viewed on the web at http://www.ferc.gov using the “eLibrary” link. Enter the docket number excluding the last three digits in the docket number field to access the document. For assistance, please contact FERC Online support at FERConlinesupport@ferc.gov or toll free at (866) 208-3676, or for TTY, contact (202) 502-8659.

Any questions concerning this application should be directed to counsel for Calhoun LNG, Lisa M. Tonery, King and Spalding LLP, at (212) 556-2307 (phone), (212) 556-2222 (fax), or ltonery@kslaw.com.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. Unless filing electronically, a party must submit 14 copies of filings to the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See, 18 CFR 385.2001(a)(1)(iii) and the instructions on the Commission's Web site (http://www.ferc.gov) under the “e-Filing” link.

Comment Date: April 18, 2005.

Magalie R. Salas,
Secretary.

[FR Doc. E5-1513 Filed 4-4-05; 8:45 am]

BILLING CODE 6717-01-P